DEPARTMENT OF LABOR

Employment and Training Administration

[TA-W-63,441]

Metaldyne Corporation, Metaldyne Tubular Products, Currently Known as Flexible Metal, Inc., Powertrain Division, Hamburg, MI; Amended Certification Regarding Eligibility To Apply for Worker Adjustment Assistance

In accordance with section 223 of the Trade Act of 1974, (19 U.S.C. 2273), and section 246 of the Trade Act of 1974 (26 U.S.C. 2813), as amended, the Department of Labor issued a Certification of Eligibility to Apply for Worker Adjustment Assistance and Alternative Trade Adjustment Assistance on July 3, 2008, applicable to workers of Metaldyne Corporation, Powertrain Division, Hamburg, Michigan. The notice was published in the Federal Register on July 21, 2008 (73 FR 42370).

At the request of the State agency, the Department reviewed the certification for workers of the subject firm. The workers are engaged in the production of exhaust manifolds and turbo tubes for the automotive industry.

Information shows that on June 10, 2010, Flexible Metals, Inc. purchased Metaldyne Corporation, Metaldyne Tubular Products, Powertrain Div. and is currently known as Flexible Metals, Inc., Powertrain Division. Some workers separated from employment at the subject firms have their wages reported under a separate unemployment insurance (UI) tax accounts for Flexible Metals, Inc., Powertrain Division.

Accordingly, the Department is amending this certification to properly reflect this matter.

The intent of the Department's certification is to include all workers of the subject firm who were adversely affected by increased customer imports of exhaust manifolds and turbo tubes for the automotive industry.

The amended notice applicable to TA-W-63,441 is hereby issued as follows:

“All workers of Metaldyne Corporation, Metaldyne Tubular Products, Powertrain Division, currently known as Flexible Metals, Inc., Powertrain Division, Hamburg, Michigan, who became totally or partially separated from employment on or after May 27, 2007 through July 3, 2010, are eligible to apply for adjustment assistance under Section 223 of the Trade Act of 1974, are also eligible to apply for alternative trade adjustment assistance under Section 246 of the Trade act of 1974.”

Signed at Washington, DC, this 3rd day of August 2010.
Elliott S. Kushner,
Certifying Officer, Division of Trade Adjustment Assistance.

[FR Doc. 2010-20040 Filed 8-12-10; 8:45 am]

BILLING CODE 4510-FN-P